DEPARTMENT OF TRANSPORTATION

Federal Aviation Administration

Public Notice For Waiver of Aeronautical Land-Use Assurance Minneapolis-St. Paul International Airport, Minneapolis, MN

AGENCY: Federal Aviation Administration, DOT.

ACTION: Notice of intent of waiver with respect to land.

SUMMARY: The Federal Aviation Administration (FAA) is giving notice that portions of the airport property located in the north-northwest corner of the airport are not needed for aeronautical use as currently identified on the Airport Layout Plan. The Metropolitan Airports Commission (MAC) proposes the release and acquisition of land parcels in order to acquire land necessary to construct a deicing facility on land currently occupied by the U.S. Navy Reserve. To obtain the property from the U.S. Navy, the MAC is required by Congress to provide a functional replacement facility to the satisfaction of the Secretary of the Navy.

The requirement is contained in Public Law 105-261, Section 2854, which was approved by the U.S. Congress in 1998. The MAC will release and subsequently acquire land from two entities, the Minneapolis Park and Recreation Board (MPRB) and the U.S. Navy Reserve. The MAC committed in the Dual Track Airport Planning Process, Final Environmental Impact Statement/Record of Decision to construct a dedicated deicing pad at the end of Runway 12R. The proposed deicing facility would be located on existing U.S. Navy Reserve property (27.49 acres). To acquire this property, the MAC is proposing the following:

1. Release of fee title of 10 acres of airport land to the MPRB, along with a 15 year lease on an additional 30 acres adjacent to this parcel.

2. Acquisition of fee title by the MAC of an 8-acre parcel of MPRB owned land in an adjacent to the Navy Relocation Site.

3. Release of fee title of 11.8 acres of airport land, including portions of the former MPRB parcel, to the U.S. Navy Reserve.

4. Acquisition of fee title by the MAC of 27.49 acres of land from the U.S. Navy Reserve to allow for the construction of a deicing pad.

The airport land was acquired through FAA Grants, FAAP-9-21-046-507 in 1955, and FAAP-9-21-046-0215 in 1962. The parcel being released to the U.S. Navy has been vacant for several years. The parcel being released to the MPRB is presently wooded and undeveloped. These parcels are not needed for aeronautical use, as shown on the Airport Layout Plan.

The property transactions will facilitate a key part of the MSP 2010 Airport Expansion Program, to build a system of end-of-runway remote deicing pads. It will bring MSP in compliance with FAA Advisory Circulars, fulfill environmental permit requirements as found in the MSP NPDES discharge permit, enhance capacity of MSP during severe weather conditions, and improve the safety of the flying public.

In accordance with section 47107(h) of title 49, United States Code, this notice is required to be published in the Federal Register 30 days before modifying the land-use assurance that requires the property to be used for an aeronautical purpose.

DATES: Comments must be received on or before January 6, 2003.

FOR FURTHER INFORMATION CONTACT: Mr. Glen Orcutt, Program Manager, Federal Aviation Administration, Airports District Office, 6020 28th Avenue South, Room 102, Minneapolis, MN 55450-2706. Telephone Number (612) 713-4354/FAX Number (612) 713-4364. Documents reflecting this FAA action may be reviewed at this same location or at the Minneapolis-St. Paul International Airport, Minneapolis, MN.

SUPPLEMENTARY INFORMATION: This notice announces that the FAA intends to authorize the disposal of the subject airport property at Minneapolis-St. Paul International Airport, Minneapolis, MN. Approval does not constitute a commitment by the FAA to financially assist in the disposal of the subject airport property nor a determination that all measures covered by the program are eligible for Airport Improvement Program funding from the FAA. The disposition of proceeds from the disposal of the airport property will be in accordance with FAA's Policy and Procedures Concerning the Use of Airport Revenue, published in the Federal Register on February 16, 1999.

Issued in Minneapolis, MN, on October 23, 2002.
Nancy M. Nistler,
Manager, Minneapolis Airports District Office, FAA, Great Lakes Region.

[FR Doc. 02-30848 Filed 12-4-02; 8:45 am]

BILLING CODE 4910-13-M